Proclamation 9932 of September 25, 2019

Suspension of Entry as Immigrants and Nonimmigrants of Senior Officials of the Government of Iran

By the President of the United States of America

A Proclamation

The Government of Iran is a state sponsor of terrorism, and the Islamic Revolutionary Guard Corps, including its Qods Force, supports terrorists and directly engages in terrorism. Iran arbitrarily detains United States citizens. The Iranian regime contributes to humanitarian crises, threatens its neighbors, threatens international shipping, and conducts destructive cyberattacks. Given that this behavior threatens peace and stability in the Middle East and beyond, I have determined that it is in the interest of the United States to take action to restrict and suspend the entry into the United States, as immigrants or nonimmigrants, of senior government officials of Iran, and their immediate family members.

NOW, THEREFORE, I, DONALD J. TRUMP, by the authority vested in me by the Constitution and the laws of the United States of America, including sections 212(f) and 215(a) of the Immigration and Nationality Act (INA) (8 U.S.C. 1182(f) and 1185(a)) and section 301 of title 3, United States Code, hereby find that the unrestricted immigrant and nonimmigrant entry into the United States of persons described in section 1 of this proclamation would, except as provided for in section 4 of this proclamation, be detrimental to the interests of the United States, and that their entry should be subject to certain restrictions, limitations, and exceptions. I therefore hereby proclaim the following:

Section 1. Suspension and Limitation on Entry. The entry into the United States, as immigrants or nonimmigrants, of the following persons is hereby suspended:

(a) Senior officials of the Government of Iran; and

(b) The immediate family members of senior officials of the Government of Iran.

Sec. 2. Delegation of Authority to the Secretary of State. Persons covered by section 1 of this proclamation shall be identified by the Secretary of State, or the Secretary's designee, in his or her sole discretion, pursuant to such procedures as the Secretary may establish under section 3 of this proclamation.

Sec. 3. Implementation of Suspension and Limitation on Entry. The Secretary of State shall implement this proclamation as it applies to visas pursuant to such procedures as the Secretary of State, in consultation with the Secretary of Homeland Security, may establish. The Secretary of Homeland Security shall implement this proclamation as it applies to the entry of aliens pursuant to such procedures as the Secretary of Homeland Security, in consultation with the Secretary of State, may establish.

Sec. 4. Scope of Suspension and Limitation on Entry. Section 1 of this proclamation shall not apply to:

(a) Any lawful permanent resident of the United States;

(b) Any individual who has been granted asylum by the United States, any refugee who has already been admitted to the United States, or any individual granted withholding of removal or protection under the Convention Against Torture and Other Cruel, Inhuman or Degrading Treatment or Punishment, and nothing in this proclamation shall be construed to affect any individual's eligibility for asylum, refugee status, withholding of removal, or protection under the Convention Against Torture, consistent with the laws and regulations of the United States; and

(c) Any person otherwise covered by section 1 of this proclamation, upon determination by the Secretary of State that the person's entry would not be contrary to the interests of the United States, including when the Secretary so determines, based on a recommendation of the Attorney General, that the person's entry would further important United States law enforcement objectives. In exercising this responsibility, the Secretary of State shall consult the Secretary of Homeland Security on matters related to admissibility or inadmissibility within the authority of the Secretary of Homeland Security.

Sec. 5. Termination. This proclamation shall remain in effect until such time as the Secretary of State determines that it is no longer necessary and should be terminated, either in whole or in part. Any such determination by the Secretary of State shall become effective upon publication in the Federal Register.

Sec. 6. General Provisions. (a) Nothing in this proclamation shall be construed to impair or otherwise affect:

(i) United States Government obligations under applicable international agreements;

(ii) the authority granted by law to an executive department or agency, or the head thereof; or

(iii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this twenty-fifth day of September, in the year of our Lord two thousand nineteen, and of the Independence of the United States of America the two hundred and forty-fourth.

[FR Doc. 2019-21400

Filed 9-27-19; 11:15 am]

Billing code 3295-F9-P